DEPARTMENT OF STATE

[Public Notice: 10356]

Determination Under the Foreign Assistance Act of 1961 for Assistance for Iraq

Pursuant to the authority vested in me by section 506(a)(2)(A)(i)(II) of the Foreign Assistance Act of 1961 (FAA), and the President's Memorandum of Delegation dated December 4, 2017, I hereby determine that it is in the national interest of the United States to draw down articles and services from the inventory and resources of any agency of the U.S. government, and military education and training from the Department of Defense, for the purposes and under the authorities of chapter 9 of Part I of the FAA. I therefore direct the drawdown of up to $22,000,000 of articles and services from the inventory and resources of any agency of the U.S. government, and military education and training from the Department of Defense, to provide assistance for Iraq.

This determination shall be reported to Congress and published in the Federal Register.

Rex W. Tillerson,
Secretary of State.

[FR Doc. 2018-05036 Filed 3-12-18; 8:45 am]

BILLING CODE 4710-31-P